OFFICE OF MANAGEMENT AND BUDGET

Audits of States, Local Governments, and Non-Profit Organizations; OMB Circular A-133 Compliance Supplement

AGENCY: Executive Office of the President, Office of Management and Budget.

ACTION: Notice of availability of the 2012 OMB Circular A-133 Compliance Supplement.

SUMMARY: This notice announces the availability of the 2012 OMB Circular A-133 Compliance Supplement (Supplement). The notice also offers interested parties an opportunity to comment on the 2012 Supplement. The 2012 Supplement adds seven new programs, including four programs added to existing clusters. It deletes eight programs and has also been updated for program changes and technical corrections. The eight deleted programs are:

• Catalog of Federal Domestic Assistance (CFDA) 15.518, Garrison Diversion Unit

• CFDA 15.520, Lewis and Clark Rural Water System

• CFDA 20.603, Federal Highway Safety Data Improvements Incentive

• CFDA 20.604, Safety Incentive Grants for Use of Seatbelts

• CFDA 20.605, Safety Incentives to Prevent Operation of Motor Vehicles by Intoxicated Persons

• CFDA 20.933, National Infrastructure Investments

• CFDA 93.713, ARRA—Child Care and Development Block Grant

• CFDA 97.004, State Domestic Preparedness Equipment Support Program (State Homeland Security Grant Program)

In total, the 2012 Supplement includes 243 individual programs. A list of changes to the 2012 Supplement can be found at APPENDIX V. APPENDIX VII provides an audit alert and lists compliance requirements regarding the grant programs funded under American Recovery and Reinvestment Act of 2009. Due to its length, the 2012 Supplement is not included in this Notice. See “Addresses” for information about how to obtain a copy either on line or through the Government Printing Office.

DATES: The 2012 Supplement supersedes the 2011 Supplement and will apply to audits of fiscal years beginning after June 30, 2011. All comments on the 2012 Supplement must be in writing and received by October 31, 2012. Late comments will be considered to the extent practicable. We received no comments on the 2011 Supplement.

Due to potential delays in OMB's receipt and processing of mail sent through the U.S. Postal Service, we encourage respondents to submit comments electronically to ensure timely receipt. We cannot guarantee that comments mailed will be received before the comment closing date.

Electronic mail comments may be submitted to: Hai_M._Tran@omb.eop.gov. Please include “A-133 Compliance Supplement—2012” in the subject line and the full body of your comments in the text of the electronic message and as an attachment. Please include your name, title, organization, postal address, telephone number, and email address in the text of the message. Comments may also be submitted via facsimile at 202-395-3952.

Comments may be mailed to Gilbert Tran, Office of Federal Financial Management, Office of Management and Budget, 725 17th Street NW., Room 6025, New Executive Office Building, Washington, DC 20503.

Comments may also be sent through http://www.regulations.gov—a Federal E-Government Web site that allows the public to find, review, and submit comments on documents that agencies have published in the Federal Register and that are open for comment. Simply type “A-133 Compliance Supplement—2012” (in quotes) in the Comment or Submission search box, click Go, and follow the instructions for submitting comments. Comments received through the Web site by the date specified above will be included as part of the official record.

ADDRESSES: The 2012 Supplement is available on-line on the OMB home page at http://www.whitehouse.gov/omb/circulars/a133_compliance_supplement_2012.

FOR FURTHER INFORMATION CONTACT: Recipients and auditors should contact their cognizant or oversight agency for audit, or Federal awarding agency, as appropriate under the circumstances. The Federal agency contacts are listed in Appendix III of the Supplement. Subrecipients should contact their pass-through entity. Federal agencies should contact Gilbert Tran, Office of Management and Budget, Office of Federal Financial Management, at (202) 395-3052.

Norman S. Dong,
Deputy Controller.

[FR Doc. 2012-18808 Filed 7-31-12; 8:45 am]

BILLING CODE P